SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995, requires federal agencies to publish a notice in the Federal Register concerning each proposed collection of information before submission to OMB, and to allow 60 days for public comment in response to the notice. This notice complies with that requirement.

DATES: Submit comments on or before July 24, 2018.

ADDRESSES: Send all comments to Dena Moglia, Supervisor Veterans Affairs Specialist of Veterans Programs, Office of Veteran Business Development, Small Business Administration, 409 3rd Street, 5th Floor, Washington, DC 20416.

FOR FURTHER INFORMATION CONTACT: Dena Moglia, Supervisor Veterans Affairs Specialist of Veterans Programs, Office of Veterans Business Development, dena.moglia@sba.gov, 202-205-7034, or Curtis B. Rich, Management Analyst, 202-205-7030, curtis.rich@sba.gov.

SUPPLEMENTARY INFORMATION: Boots to Business is an entrepreneurial education initiative offered by the U.S. Small Business Administration (SBA) as a career track within the Department of Defense's revised Training Assistance Program called Transition Goals, Plans, Success (Transition GPS). The curriculum provides valuable assistance to transitioning service members exploring self-employment opportunities by leading them through the key steps for evaluating business concepts and the foundational knowledge required for developing a business plan. Participants are also introduced to SBA resources available to help access startup capital and additional technical assistance.

The Boots to Business Post Course surveys will be online, voluntary surveys that enable the Boots to Business program office to capture data related but not limited to the effectiveness of all Boots to Business courses, quality of the instructors and materials, and number of small businesses created as a result of participating in Boots to Business. Boots to Business will send an initial survey via email to all course participants immediately following course completion to gain insight on the quality of the program. Every 12 months following course completion, a follow up survey will be sent to all participants to measure participant outcomes as the SBA seeks to gauge the impact of course completion on the creation of veteran owned small businesses or the motivation and confidence of veterans to pursue business ownership. Participants will be surveyed once a year for 5 years following course completion to allow for business incubation.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Boots to Business Post Course Surveys.

Description of Respondents: Service members, veterans and spouses.

Form Number: N/A.

Total Estimated Annual Responses: 10,000.

Total Estimated Annual Hour Burden: 2,000 hours.

Curtis B. Rich,
Management Analyst.

[FR Doc. 2018-11284 Filed 5-24-18; 8:45 am]

BILLING CODE 8025-01-P